DEPARTMENT OF COMMERCE

National Telecommunications and Information Administration

[Docket No. 011109273-1273-01]

RIN 0660-XX13

Notice, Request for Comments on Deployment of Broadband Networks and Advanced Telecommunications

AGENCY: National Telecommunications and Information Administration, U.S. Department of Commerce.

ACTION: Request For Comments on Deployment of Broadband Networks and Advanced Telecommunications Services.

SUMMARY: The National Telecommunications and Information Administration (NTIA) invites interested parties to comment on broadband deployment in the United States. NTIA invites the public to submit comments on several issues including: supply and demand for broadband services; and the technical, economic, or regulatory barriers to broadband deployment. Comments should be submitted on paper and, where possible, in electronic form as well. All comments submitted in response to this Notice will be posted on the NTIA Web site.

DATES: Interested parties are invited to submit comments no later than December 14, 2001.

ADDRESSES: Comments may be mailed to Josephine Scarlett, Office of the Chief Counsel, National Telecommunications and Information Administration, Room 4713 HCHB, 1401 Constitution Ave., NW., Washington, DC 20230. Parties should submit an original and five (5) copies. Where possible, parties should include a diskette in ASCII, WordPerfect (please specify version) or Microsoft Word (please specify version) format. Diskettes should be labeled with the name and organizational affiliation of the filer, and the name version of the word processing program used to create the document. In the alternative to a diskette, comments may be submitted electronically to the following electronic mail address: broadband@ntia.doc.gov. Comments submitted via electronic mail also should be submitted in one or more of the formats specified above.

FOR FURTHER INFORMATION CONTACT: Josephine Scarlett, Office of the Chief Counsel, telephone: (202) 482-1816. Media inquiries should be directed to the Office of Public Affairs, National Telecommunications and Information Administration, at (202) 482-7002.

SUPPLEMENTARY INFORMATION:

I. Background

NTIA is the executive branch agency responsible for developing and articulating domestic and international telecommunications policy. NTIA is the principal advisor to the President on telecommunications policies pertaining to the Nation's economic and technological advancement and to the regulation of the telecommunications industry.

On October 12, 2001, NTIA held informal discussions with the public and telecommunications companies to gather information about the status of broadband deployment in the United States. The participants discussed cable open access, broadband deployment in underserved rural areas, demand and supply for advanced services, technical and economic roadblocks to broadband deployment, and regulatory methods for stimulating supply and demand.

The request for comment is a part of NTIA's ongoing effort to obtain more information about broadband issues. Information submitted in response to this Notice will be used to assist the Administration in developing a domestic telecommunications policy and to continue NTIA's support for removing obstacles to broadband deployment.

NTIA seeks comment on the following specific questions. Parties are requested to respond to the questions about which they have particular knowledge or information.

II. Questions

A. What should be the primary policy considerations in formulating broadband policy for the country? Please discuss the relative importance of the following: access for all; facilities-based competition; minimal regulation; technological neutrality; intra-modal competition; inter-modal competition; and any other policy consideration.

B. How should broadband services be defined? Please discuss (1) what criteria should be used to determine whether a facility or service has sufficient transmission capacity to be classified as “broadband;” (2) how the definition should evolve over time; and (3) the policy implications of how the term is defined.

C. Several studies indicate that the rate of deployment of broadband services is equal to or greater than the deployment rates for other technologies. What is the current status of (1) supply and (2) demand of broadband services in the United States? When addressing supply, please discuss current deployment rates and any regulatory policies impeding supply. When addressing demand, please discuss both actual take rates and any evidence of unserved demand. Please also address potential underlying causes of low subscribership rates, such as current economic conditions, price, cost-structure, impediments to the development of broadband content, or any other factor. To what extent has the growth in competition for broadband and other services been slowed by the existing rates and rate structures for regulated telecommunications services?

D. Should government adopt as a goal “access for all” to broadband service? What would be the costs of such a goal? What policy initiatives, if any, should be considered to achieve that goal? Are there areas or persons that are unlikely to be served through marketplace forces?

E. Do the interconnection, unbundling, and resale requirements of the Telecommunications Act of 1996 reduce incumbent local exchange carriers' (ILECs') incentives to invest in broadband facilities and services?

1. Are their investment disincentives attributable to the regulated rates for interconnection, unbundled network elements, and resold services?

2. To what extent are those disincentives due to ILECs' uncertainties about their ability to recover the added network costs needed to accommodate potential requests from competitors? What are the magnitude of those additional costs? What mechanisms could be used to share the risks of those costs efficiently and equitably among ILECs, competitors, or users?

3. To what extent are the returns on ILECs' investments in new infrastructure uncertain? Is the uncertainty of gaining an adequate return on each infrastructure improvement (attributable in part to other firms' ability to use those facilities to offer competing services) significant enough to deter investment?

4. What are the principal strengths and weaknesses of the FCC's total element long run incremental cost (TELRIC) ¹ methodology? What changes could be made to render TELRIC an effective deterrent to the exercise of market power and conducive to efficient infrastructure investment? Would it be possible to construct an alternative methodology that would not depend on cost information controlled by regulated firms?

¹ TELRIC is a method of determining the cost of telephone service based on the forward-looking, incremental cost of equipment and labor without taking into account the historical, or embedded cost. The pricing method is based on a hypothetical network using the most efficient technology available. See 47 CFR 51.503, 51.505 (1997); In Re Implementation of the Local Competition Provisions in the Telecommunications Act of 1996, CC Docket Nos. 96-98 and 95-185, 11 FCC Rcd 15499 (1996), vacated, 120 F.3d 753 (8th Cir. 1997), remanded, 219 F.3d 744 (8th Cir. 2000), cert. granted, General Comm., Inc. v. Iowa Util. Bd., 121 S.Ct. 879 (2001).

F. Some have suggested that a regulatory dividing line should be drawn between legacy “non-broadband” facilities and/or services and new “broadband” facilities and/or services. Is this a feasible approach? If so, how would it work?

1. What effects would changes in the regulatory structure for broadband services and facilities have on regulation and competition with respect to voice telephone and other non-broadband services?

2. If ILECs deploy broadband services using a mixture of new and old facilities, will competitors be able to use the older shared facilities that they previously had access to?

3. If ILECs deploy broadband facilities to replace portions of their existing copper plant, will the displaced copper plant give competitors a viable opportunity to offer alternative services? What would be the annual costs to the ILEC (or to a purchaser of the displaced copper plant) of a continuing obligation to maintain that plant?

4. What regulations, if any, should apply to new broadband facilities and/or services to ensure a competitive marketplace?

G. To what extent have competitive firms deployed their own (a) transport, (b) switching, and (c) loop facilities? Are those investments limited to particular areas of the country or to particular portions of communities and metropolitan areas? What market characteristics must exist for competitors to make facilities-based investments? Do competitors have the ability to deploy their facilities in ways that minimize costs and facilitate efficient network design?

H. What cable companies are currently conducting trials to evaluate giving multiple Internet service providers access to broadband cable modem services? Describe the terms and conditions of ISP access in such trials. What technical, administrative, and operational considerations must be addressed to accommodate multiple ISP access? How can cable firms manage the increased traffic load on their shared distribution systems caused by multiple ISPs?

I. What problems have companies experienced in deploying broadband services via wireless and satellite? What regulatory changes would facilitate further growth in such services? Is available spectrum adequate or inadequate? What additional spectrum allocations, if any, are needed?

J. How should the broadband product market be defined? What policy initiatives would best promote intra-modal and inter-modal broadband competition?

K. Would it be appropriate to establish a single regulatory regime for all broadband services? Are there differences in particular broadband network architectures (e.g., differences between cable television networks and traditional telephone networks) that warrant regulatory differences? What would be the essential elements of a unified broadband regulatory regime?

L. Are there local issues affecting broadband deployment that should be addressed by federal policies? Please provide specific information or examples regarding these problems. Should fees for rights of way and street access reflect costs in addition to the direct administrative costs to the municipalities affected? To what extent do state laws and regulations limit municipalities' ability to establish nondiscriminatory charges for carriers' use of public rights-of-way? Please discuss the most appropriate relationship between federal, state, and local governments to ensure minimal regulation while removing disincentives or barriers to broadband deployment.

M. Are there impediments to federal lands and buildings that thwart broadband deployment? Please provide specific data. What changes, if any, may be necessary to give service providers greater access to federal property?

N. With respect to any proposed regulatory changes suggested in response to the above questions, can those changes be made under existing authority or is legislation required?

Nancy J. Victory,
Assistant Secretary for Communications and Information.

[FR Doc. 01-28784 Filed 11-16-01; 8:45 am]

BILLING CODE 3510-60-P